DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before April 11, 2011. Address written comments to Statutory Import Programs Staff, Room 3720, U.S. Department of Commerce, Washington, D.C. 20230. Applications may be examined between 8:30 a.m. and 5 p.m. at the U.S. Department of Commerce in Room 3720.

Docket Number: 11-021. Applicant: Naval Postgraduate School, Department of Physics, 833 Dyer Rd., Monterey, CA 93943. Instrument: Electron Microscope. Manufacturer: FEI Company, Czech Republic. Intended Use: The instrument will be used to look at a range of semiconducting and other light emitting materials. It will be used to analyze the surface topography of the samples and the corresponding light emitted from the materials.

Justification for Duty-Free Entry: There are no instruments of the same general category manufactured in the United States. Application accepted by Commissioner of Customs: March 1, 2011.

Dated: March 16, 2011.
Gregory Campbell,
Director, Subsidies Enforcement Office.

[FR Doc. 2011-6736 Filed 3-21-11; 8:45 am]

BILLING CODE 3510-DS-P